DEPARTMENT OF TRANSPORTATION

Office of the Secretary

Notice of Applications for Certificates of Public Convenience and Necessity and Foreign Air Carrier Permits Filed Under Subpart B (Formerly Subpart Q) During the Week Ending December 10, 2011

The following Applications for Certificates of Public Convenience and Necessity and Foreign Air Carrier Permits were filed under Subpart B (formerly Subpart Q) of the Department of Transportation's Procedural Regulations (see 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0227.

Date Filed: December 7, 2011.

Due Date for Answers, Conforming Applications, or Motion to Modify Scope: December 28, 2011.

Description: Application of Aviation Safety & Security Consultants, Ltd., d/b/a Butler's Aviation requesting issuance of a foreign air carrier permit to the extent necessary to permit it to engage in charter foreign air transportation of persons, property, and mail between a point or points in the Bahamas and a point or points in Florida, and other charters using small aircraft.

Docket Number: DOT-OST-2010-0264.

Date Filed: December 6, 2011.

Due Date for Answers, Conforming Applications, or Motion to Modify Scope: December 27, 2011.

Description: Application of Whitejets Transportes Aéreos Ltda. (“Whitejets”) requesting amendment of its foreign air carrier permit to remove the prior approval requirement imposed by Order 2011-3-15 consistent with the Department's decisions in other recent cases involving Brazilian carriers. Whitejets also requests an exemption to the extent necessary to allow Whitejets to operate charters between Brazil and the United States without needing to obtain prior approval from the Department in the form of a statement of authorization.

Renee V. Wright,
Program Manager, Docket Operations, Federal Register Liaison.

[FR Doc. 2011-32770 Filed 12-21-11; 8:45 am]

BILLING CODE 4910-9X-P